DEPARTMENT OF THE INTERIOR

Bureau of Land Management

[CA-030-1210-BE]

Notice of Designation of Elkhorn Ridge Wilderness, California

AGENCY: Bureau of Land Management, Interior.

ACTION: Notice.

SUMMARY: This notice implements Section 6 of the Northern California Coastal Wild Heritage Wilderness Act (Act) (Pub. L. 109-362). The Act designates the 11,271 acre Elkhorn Ridge Potential Wilderness Area and requires that this area “shall be designated as wilderness and as a component of the National Wilderness Preservation System, on the earlier of—(1) the date on which the Secretary publishes in the Federal Register notice that the conditions in the potential wilderness area that are incompatible with the Wilderness Act (16 U.S.C. 1131 et seq.) have been removed; or (2) the date that is 5 years after the date of enactment of this Act.”

The Secretary of the Interior has determined that the conditions of the Elkhorn Ridge Potential Wilderness Area that were incompatible have been removed, and therefore the area is now suitable for wilderness designation.

DATES: The Elkhorn Ridge Potential Wilderness Area shall become the Elkhorn Ridge Wilderness on January 13, 2011.

ADDRESSES: Bureau of Land Management, Arcata Field Office, 1695 Heindon Road, Arcata, California 95521. Detailed information concerning this action is available for review at this address.

FOR FURTHER INFORMATION CONTACT: Bob Wick, Bureau of Land Management, at the above address or at (707) 825-2321.

SUPPLEMENTARY INFORMATION: Section 6(b) of the Act provides that the 11,271 acre Elkhorn Ridge Potential Wilderness Area be managed as wilderness except as necessary for ecological restoration and subject to valid existing rights until its designation as wilderness. Section 6(c) of the Act allows the Bureau of Land Management (BLM) to use motorized equipment and mechanized transport for ecological restoration within the potential wilderness area, but requires that restoration to the maximum extent practicable be undertaken through the “minimum tool or administrative practice necessary * * * with the least amount of adverse impact on wilderness character and resources.”

The Elkhorn Ridge area's designation as a potential wilderness was intended to provide the Secretary of the Interior, through the BLM, time to assess and, if necessary, restore 1,565 acres of previously logged private in-holdings acquired shortly before the Act's passage.

After designation of the Elkhorn Ridge Potential Wilderness Area, the BLM's Arcata Field Office assessed the in-holdings to determine their condition relative to the Act and the BLM wilderness inventory criteria. Through this assessment, the BLM determined that impacts from past activities are successfully recovering through natural rehabilitation and are compatible with the Act's requirements and with wilderness designation. The Elkhorn Ridge Potential Wilderness Area appears to have been affected primarily by the forces of nature and exhibits outstanding opportunities for solitude and primitive and unconfined recreation. Although some traces of past logging operations and associated road construction remain, the BLM has determined that the benefits of mechanized restoration are outweighed by the adverse impacts of such mechanized restoration on wilderness character. The BLM has determined that additional restoration actions would not be beneficial or necessary prior to wilderness designation and would not further the purposes of the Act.

As provided for under section 6(d) and 6(e) of the Act, the Elkhorn Ridge Potential Wilderness Area shall become wilderness on January 13, 2011. The area shall be known as the Elkhorn Ridge Wilderness and administered in accordance with section 4 of the Wilderness Act (16 U.S.C. 1131 et seq.). As the Elkhorn Ridge Potential Wilderness Area has been managed as wilderness pursuant to section 6(b) of the Act, the designation of this area as wilderness will not change any public uses of the area. The BLM will take this designation of the Elkhorn Ridge Wilderness into account as it moves forward with its long term planning and management.

Authority: Sec. 6, Pub. L. 109-362.

Sylvia V. Baca,
Deputy Assistant Secretary, Land and Minerals Management.

[FR Doc. 2011-606 Filed 1-12-11; 8:45 am]

BILLING CODE 4310-40-P